NUCLEAR REGULATORY COMMISSION

[NRC-2021-0033]

Notice of Consolidation Effort To Streamline the Review Process Pertaining to Staff Guidance for Spent Fuel Storage and Radioactive Material Transportation Packages

AGENCY: Nuclear Regulatory Commission.

ACTION: Notice of consolidation of staff guidance.

SUMMARY: The U.S. Nuclear Regulatory Commission (NRC) has completed a consolidation effort to streamline the review process pertaining to staff guidance for spent fuel storage and radioactive material transportation packages. NUREG-1536, and NUREG-1567 have been consolidated into NUREG-2215 (NRC-2017-0211), and similarly, NUREG-1609 and NUREG-1617 have been consolidated into in NUREG-2216 (NRC-2019-0132), as well as all associated supplements and Spent Fuel Storage and Transportation Interim Staff Guidance (ISG). A notice of this consolidation has been posted on each of the affected web pages and redirects to NUREG-2215 and NUREG-2216 have been provided. Note that the retired standard review plans (SRPs) and ISG still remain available for reference as legacy documents, with links provided on each web page.

DATES: The revised format described in this document takes effect on January 29, 2021.

ADDRESSES: Please refer to Docket ID NRC-2021-0033 when contacting the NRC about the availability of information regarding this document. You may obtain publicly available information related to this document using any of the following methods:

• Federal Rulemaking Website: Go to https://www.regulations.gov and search for Docket ID NRC-2021-0033. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public

Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737 between 8:00 a.m. and 4:00 p.m. (EST), Monday through Friday, except Federal holidays.

FOR FURTHER INFORMATION CONTACT: Jeremy Smith, Office of Nuclear Material Safety and Safeguards, U.S. Nuclear Regulatory Commission, Washington, DC 20555-0001; telephone: 301-415-7308, email: Jeremy.Smith@nrc.gov.

SUPPLEMENTARY INFORMATION:

I. Background

NUREG-2215 is the new consolidated SRP for Spent Fuel Dry Storage Systems and Facilities that was issued as a draft for public comment on February 15, 2017 (82 FR 52944), under docket number NRC-2017-0211. This SRP is used by staff to generate safety evaluation reports and certificate of compliances under part 72 of title 10 of the Code of Federal Regulations (10 CFR), “Licensing Requirements for the Independent Storage of Spent Nuclear Fuel, High-Level Radioactive Waste, and Reactor-Related Greater than Class C Waste,” for dry cask storage systems for general license facilities and for specific license facilities. NUREG-1536, NUREG-1567 and all applicable ISGs were consolidated into NUREG-2215.

NUREG-2216 is the new consolidated SRP for Transportation Packages for Spent Fuel and Radioactive Material that was issued as a draft for public comment on August 16, 2019 (84 FR 42024), under docket number NRC-2019-0132. This SRP is used by staff for evaluating package approvals under 10 CFR part 71, “Packaging and Transportation of Radioactive Material.” NUREG-1609, NUREG-1617, their respective supplements for mixed oxide fuels and tritium producing burnable absorber rods, and all applicable ISGs were consolidated into NUREG-2216.

NUREG-1536 was the SRP for Dry Cask Storage Systems. NUREG-1567 was the SRP for Spent Fuel Dry Storage Facilities. NUREG-1609 was the SRP for Transportation Packages for Radioactive Material. NUREG-1617 was the SRP for Transportation Packages for Spent Nuclear Fuel.

The ISG for Spent Fuel Storage and Transportation was a set of guidance documents for staff that clarify information or provide additional guidance to staff in specific areas that had evolved since the original issuance of the original SRPs.

Staff determined that a consolidation of this information would streamline the review process for staff since the original SRPs, supplements, and ISGs (over 20 documents) were cumbersome for staff to reference as part of the review process. Further, this notice is specifically made so that the public are aware of the changes that took place in the NUREG Series Publications pertaining to the standard review process for spent fuel storage and radioactive material packaging.

II. Availability of Documents

The documents identified in the following table are available to interested persons through one or more of the following methods, as indicated.

Document description | ADAMS accession No. and web link
NUREG-2215—SRP for Spent Fuel Dry Storage Systems and Facilities, Final Report | ML20121A190; https://www.nrc.gov/reading-rm/doc-collections/nuregs/staff/sr2215/.
NUREG-2216—SRP for Transportation Packages for Spent Fuel and Radioactive Material | ML20234A651; https://www.nrc.gov/reading-rm/doc-collections/nuregs/staff/sr2216/.
NUREG-1536—Revised Standard Review Plan for Spent Fuel Dry Storage Systems | ML101040620; https://www.nrc.gov/reading-rm/doc-collections/nuregs/staff/sr1536/.
NUREG 1567—SRP for Spent Fuel Dry Storage Facilities | ML003686776; https://www.nrc.gov/reading-rm/doc-collections/nuregs/staff/sr1567/.
NUREG 1609—SRP for Transportation Packages for Radioactive Material | ML20207F393; https://www.nrc.gov/reading-rm/doc-collections/nuregs/staff/sr1609/.
NUREG 1617—SRP for Transportation Packages for Spent Nuclear Fuel | ML003696262; https://www.nrc.gov/reading-rm/doc-collections/nuregs/staff/sr1617/.
Interim Staff Guidance for Spent Fuel Storage and Transportation website | https://www.nrc.gov/reading-rm/doc-collections/isg/spent-fuel.html.

Dated: January 26, 2021.
For the Nuclear Regulatory Commission.
Christopher. M. Regan,
Deputy Director, Division of Fuel Management, Office of Nuclear Material Safety and Safeguards.

[FR Doc. 2021-01966 Filed 1-28-21; 8:45 am]

BILLING CODE 7590-01-P